DEPARTMENT OF AGRICULTURE

Office of the Secretary

Notice of the USDA Technology and eGovernment Advisory Council Meeting

AGENCY: Office of the Chief Information Officer, USDA.

ACTION: Notice of meeting.

SUMMARY: In accordance with the Federal Advisory Committee Act, 5 U.S.C. app 2, the United States Department of Agriculture announces a meeting of the USDA Technology and eGovernment Advisory Council. The Council will advise the Secretary and the Chief Information Officer in planning and developing strategies for technology and eGovernment Initiatives. The purpose of the meeting is to discuss USDA information technology investments as well as the current status and future of eGovernment Initiatives.

DATES: The USDA Technology and eGovernment Advisory Council will meet on November 9, 2004 from 8:30 a.m. to 4:30 p.m.; and November 10, 2004 from 8:30 a.m. to 4 p.m. Written comments for the public record will be welcomed before or up to two weeks after the meeting and should be submitted to the Contact Person in this notice. All comments will become part of the official record of the Advisory Council.

ADDRESSES: The meeting will take place at the Jamie L. Whitten Building, Room 104A, 1400 Independence Ave., SW., Washington, DC 20250. Please send written comments to the Contact Person identified herein at: Office of the Chief Information Officer, 1400 Independence Ave., SW., Room 405W, Jamie L. Whitten Building, United States Department of Agriculture, Washington, DC 20250; and electronic comments to the Contact Person at: sandy.facinoli2@usda.gov.

FOR FURTHER INFORMATION CONTACT: Sandy Facinoli, Designated Federal Official, USDA Technology and eGovernment Advisory Council; telephone: (202) 720-2786; fax: (202) 205-2831.

SUPPLEMENTARY INFORMATION: On Tuesday and Wednesday, November 9, 2004 from 8:30 a.m. to 4 p.m., the USDA Technology and eGovernment Advisory Council will hold a meeting at the Jamie L. Whitten Building, United States Department of Agriculture, 1400 Independence Ave. SW, Washington, DC 20250. A copy of the agenda may be obtained by sending a request to the Contact Person in this notice.

The Council meeting will be open to the public on November 9, 2004 from 10 a.m. to 12 noon. Members of the public will be asked to register at the door. The meeting will be closed to the public on November 9, 2004 from 8:30 a.m. to 10 a.m.; and from 1:30 p.m. to 4:30 p.m.; and on November 10, 2004 from 8:30 a.m. to 12 noon and from 1:30 p.m. to 4 p.m. so that the Council can conduct administrative matters.

Scott Charbo,
Chief Information Officer.

[FR Doc. 04-23829 Filed 10-22-04; 8:45 am]

BILLING CODE 3410-11-M